FEDERAL COMMUNICATIONS COMMISSION

[CG Docket No. 08-15; DA 08-292]

Consumer & Governmental Affairs Bureau Seeks Comment on Request for Clarification That Internet Protocol Speech-to-Speech Service Is a Form of Telecommunications Relay Service Compensable From the Interstate TRS Fund

AGENCY: Federal Communications Commission.

ACTION: Notice.

SUMMARY: In this document, the Consumer & Governmental Affairs Bureau (Bureau) seeks comment on the request for clarification filed by Hawk Relay, LLC (Hawk Relay), that Internet Protocol Speech-to-Speech (IP STS) is a form of Telecommunications Relay Service (TRS). Specifically, the Bureau seeks comment on whether IP STS qualifies as a TRS under section 225(a)(3) of the Communications Act of 1934.

DATES: Comments are due on or before May 7, 2008. Reply comments are due on or before May 22, 2008.

ADDRESSES: Interested parties may submit comments identified by [CG Docket No. 08-15 and/or DA 08-292], by any of the following methods:

• Electronic Filers: Comments may be filed electronically using the Internet by accessing the Commission's Electronic Comment Filing System (ECFS), through the Commission's Web site: http://www.fcc.gov/cgb/ecfs/, or the Federal eRulemaking Portal: http://www.regulations.gov. Filers should follow the instructions provided on the Web site for submitting comments. For ECFS filers, in completing the transmittal screen, filers should include their full name, U.S. Postal Service mailing address, and CG Docket No. 08-15. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper should also submit their filings on compact disc. The compact disc should be submitted, along with three paper copies to: Dana Wilson, Consumer & Governmental Affairs Bureau, Disability Rights Office, 445 12th Street, SW., Room 3-C418, Washington, DC 20554. Such a submission should be on a compact disc formatted in an IBM compatible format using Word 2003 or a compatible software. The compact disc should be accompanied by a cover letter and should be submitted in “read only” mode. The compact disc should be clearly labeled with the commenter's name, proceeding (CG Docket No. 08-15), type of pleading (comment or reply comment), date of submission, and the name of the electronic file on the compact disc. The label should also include the following phrase “CD-Rom Copy—Not an Original.” Each compact disc should contain only one party's pleadings, preferably in a single electronic file. In addition, commenters filing by paper must send a compact disc copy to the Commission's duplicating contractor at Portals II, 445 12th Street, SW., Room CY-B402, Washington, DC 20554.

FOR FURTHER INFORMATION CONTACT: Gregory Hlibok, (800) 311-4381 (voice), (202) 418-0431 (TTY), or e-mail: Gregory.Hlibok@fcc.gov.

SUPPLEMENTARY INFORMATION: This is a summary of the Commission's document DA 08-292. Pursuant to 47 CFR 1.415 and 1.419, interested parties may file comments and reply comments on or before the dates indicated in the Dates section. The full text of document DA 08-292 and subsequently filed documents in this matter are available for public inspection and copying during regular business hours at the FCC Reference Information Center, Portals II, 445 12th Street, SW., Room CY-A257, Washington, DC 20554. They may also be purchased from the Commission's duplicating contractor at Portals II, 445 12th Street, SW., Room CY-B402, Washington, DC 20554; the contractor's Web site, http://www.bcpiweb.com; or by calling (800) 378-3160. Document DA 08-292 and subsequently filed documents in this matter may also be found by searching ECFS at http://www.fcc.gov/cgb/ecfs (insert CG Docket No. 08-15 into the Proceeding block).

To request materials in accessible formats for people with disabilities (Braille, large print, electronic files, audio format), send an e-mail to fcc504@fcc.gov or call the Consumer & Governmental Affairs Bureau at (202) 418-0530 (voice), (202) 418-0432 (TTY). Document DA 08-292 can also be downloaded in Word or Portable Document Format (PDF) at: http://www.fcc.gov/cgb/dro/trs.html.

Synopsis

On December 21, 2007, Hawk Relay, LLC (Hawk Relay) filed a request for clarification that Internet Protocol Speech-to-Speech Relay Service (IP STS) is a form of Telecommunications Relay Service (TRS) eligible for compensation from the Interstate TRS Fund. See Hawk Relay, Request for Expedited Clarification for the Provision and Cost Recovery of Internet Protocol Speech to Speech Relay Service, CG Docket No. 03-123, filed December 21, 2007 (Request). In its Request, Hawk Relay describes IP STS as a type of Speech-to-Speech service (STS) that uses the Internet, rather than a traditional telephone line, to connect the consumer to the relay provider. STS enables persons with a speech disability to make telephone calls using their own voice through relay centers with specially trained communications assistants who re-voice to the calling party what the STS user says.

The Bureau hereby seeks comment on the Request. In addition, assuming that IP STS qualifies as a TRS under section 225(a)(3) of the Communications Act of 1934, the Bureau seeks comment on the jurisdictional separation of costs, the applicability of the TRS mandatory minimum standards, and on any other issues relevant to the provision of IP STS.

Federal Communications Commission.
Nicole McGinnis,
Deputy Chief, Consumer & Governmental Affairs Bureau.

[FR Doc. E8-7202 Filed 4-4-08; 8:45 am]

BILLING CODE 6712-01-P